OFFICE OF PERSONNEL MANAGEMENT

Privacy Act of 1994; Computer Matching Programs Office of Personnel Management/Social Security Administration

AGENCY: Office of Personnel Management (OPM).

ACTION: Publication of notice of computer matching to comply with Public Law 100-503, the Computer Matching and Privacy Act of 1988.

SUMMARY: OPM is publishing notice of its computer matching program with the Social Security Administration (SSA) to meet the reporting requirements of Pub. L. 100-503. The purpose of this match is to establish the conditions for disclosure of Social Security benefit information to OPM via direct computer link for the administration of programs by the Retirement Services Programs. OPM is legally required to offset specific benefits by a percentage of benefits payable under Title II of the Social Security Act. The matching will enable OPM to compute benefits at the correct rate and determine eligibility for benefits.

DATES: The matching program will begin 40 days after the Federal Register notice has been published and the letters to Congress and OMB have been issued. The matching program will continue for 18 months from the beginning date and may be extended an additional 12 months thereafter. The data exchange will begin at a date mutually agreed upon between OPM and SSA after April 2005, unless comments on the match are received that result in cancellation of the program. Subsequent matches will take place semi-annually on a recurring basis until one of the parties advises the other in writing of its intention to reevaluate, modify and/or terminate the agreement.

ADDRESSES: Send comments to Marc Flaster, Chief, RIS Support Services Group, Office of Personnel Management, Room 4316, 1900 E Street, NW., Washington, DC 20415.

FOR FURTHER INFORMATION CONTACT: James Sparrow, (202) 606-1803.

SUPPLEMENTARY INFORMATION: OPM and SSA intend to conduct a computer matching program. The purpose of this agreement is to establish the conditions under which SSA agrees to the disclosure of benefit information to OPM. The SSA records will be used in a matching program with OPM's records on surviving spouses who may be eligible to receive a Supplementary Annuity, disability retirees, and child survivor annuitants, under the Federal Employees' Retirement System (FERS). The benefits payable to these recipients are offset if paid while also in receipt of SSA benefits.

The SSA components responsible for the disclosure are the Office of Income Security Programs. The responsible component for OPM is the Center for Retirement and Insurance Services. OPM, as the agency actually using the results of this matching activity in its programs, will publish the notice required by Title 5 United States Code (U.S.C.) 552a(e)(12) in the Federal Register.

Office of Personnel Management.
Dan G. Blair,
Acting Director.

Report of Computer Matching Program Between the Office of Personnel Management and Social Security Administration

A. Participating Agencies

OPM and SSA.

B. Purpose of the Matching Program

This computer matching agreement sets forth the responsibilities of the Social Security Administration (SSA) and the Office of Personnel Management (OPM) with respect to information disclosed pursuant to this agreement and is executed under the Privacy Act of 1974, 5 U.S.C. 552a, as amended, and the regulations and guidance promulgated thereunder.

C. Description of the Match and Records

SSA will disclose data from its MBR file (60-0090, Master Beneficiary Record, SSA/OEEAS) and MEF file (60-0059, Earning Recording and Self-Employment Income System, SSA/OEEAS), and manually extracted military wage information from SSA's “1086” microfilm file when required. OPM will provide SSA with a electronic finder file from the OPM System of Records published as OPM/Central-1 (Civil Service and Insurance Records), on October 8, 1999 (64 FR 54930), as amended on May 3, 2000 (65 FR 2575). The systems of records involved have routine uses permitting the disclosures needed to conduct this match.

D. Privacy Safeguards and Security

Both SSA and OPM will safeguard information provided by the reciprocal agency as follows: Access to the records matched and to any records created by the match will be restricted to only those authorized employees and officials who need the records to perform their official duties in connection with the uses of the information authorized in the agreement. SSA and OPM will protect Federal Tax information in the same manner which IRS systems of records are protected under the Privacy Act of 1974, as amended, and in accordance with Internal Revenue Manual 1.16.8, Physical Security Standards Handbook. Either OPM or SSA may make onsite inspection or make other provisions to ensure that adequate safeguards are being maintained by the other agency.

E. Disposal of Records

Records causing closeout or suspend actions would also be annotated and returned to OPM for recordkeeping purposes. All records returned to OPM are considered “response” records and any not used in the update process must be purged by SSA immediately after all processing is completed.

[FR Doc. 05-10826 Filed 5-31-05; 8:45 am]

BILLING CODE 6325-38-P